DEPARTMENT OF COMMERCE

International Trade Administration

[A-557-813]

Polyethylene Retail Carrier Bags From Malaysia: Final Results of Antidumping Duty Administrative Review

AGENCY: Import Administration, International Trade Administration, Department of Commerce.

SUMMARY: On June 15, 2010, the Department published its preliminary results of the administrative review of the antidumping duty order on polyethylene retail carrier bags (PRCBs) from Malaysia. The review covers one manufacturer/exporter. The period of review is August 1, 2008, through July 31, 2009.

We gave interested parties an opportunity to comment on the preliminary results. We have made no changes to the margin calculation for the final results of this review. The final weighted-average margin is listed below in the “Final Results of the Review” section of this notice.

DATES: Effective Date: October 4, 2010.

FOR FURTHER INFORMATION CONTACT: Jerrold Freeman or Yang Chun, AD/CVD Operations, Office 5, Import Administration, International Trade Administration, U.S. Department of Commerce, 14th Street and Constitution Avenue, NW., Washington, DC 20230; telephone: (202) 482-0180 or (202) 482-5760, respectively.

SUPPLEMENTARY INFORMATION:

Background

On June 15, 2010, the Department published the preliminary results of review and invited parties to comment. See Polyethylene Retail Carrier Bags From Malaysia: Preliminary Results of Antidumping Duty Administrative Review, 75 FR 33772 (June 15, 2010) (Preliminary Results). Although we received comments from interested parties, those comments are no longer on the record of the review. See “Return of Comments” section below.

We have conducted this review in accordance with section 751(a) of the Tariff Act, as amended (the Act).

Scope of the Order

The merchandise subject to the antidumping duty order is PRCBs which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches (15.24 cm) but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of the subject merchandise are currently classifiable under statistical category 3923.21.0085 of the Harmonized Tariff Schedule of the United States (HTSUS). This subheading also covers products that are outside the scope of the order. Furthermore, although the HTSUS subheading is provided for convenience and customs purposes, the written description of the scope of the order is dispositive.

Return of Comments

On July 15, 2010, Target Corporation (Target), an importer of subject merchandise, filed a case brief. On July 16, 2010, Target filed a correction letter with respect to its July 15, 2010, case brief. On July 20, 2010, the petitioners ¹ filed a rebuttal brief.

¹ The Polyethylene Retail Carrier Bag Committee and its individual members, Hilex Poly Co., LLC, and Superbag Corporation.

On August 4, 2010, we returned the July 15, 2010, case brief and July 16, 2010, correction letter to Target in accordance with 19 CFR 351.302(d) (see August 4, 2010, letter to Target). In our letter to Target, we stated that its case brief contained unsolicited and untimely new factual information and that we will not rely on the new factual information in the case brief and correction letter in making our final determination. See 19 CFR 351.104(a)(2). Accordingly, we provided Target an opportunity to refile its case brief omitting the new factual information. The deadline for Target to resubmit its case brief was August 10, 2010.

On August 5, 2010, we returned the July 20, 2010, rebuttal brief to the petitioners because in it they had referred to the new factual information Target raised improperly in its case brief and correction letter (see August 5, 2010, letter to the petitioners). In our letter, we provided the petitioners an opportunity to refile their rebuttal brief omitting the new factual information. The deadline for the petitioners to resubmit their rebuttal brief was August 11, 2010.

Target did not submit a revised case brief by the August 10 deadline. The petitioners did not submit a revised rebuttal brief by the August 11 deadline. See Memorandum to the File dated August 19, 2010.

Changes Since the Preliminary Results

Because the interested parties in this administrative review did not refile their respective case or rebuttal briefs, there are no comments to address concerning the Department's determination in the Preliminary Results. Therefore, we have made no changes to our determination to apply adverse facts available, as discussed in the Preliminary Results (75 FR at 33773-74), to Euro Plastics Malaysia Sdn. Bhd. (Euro Plastics).

Final Results of the Review

As a result of our review, we determine that a weighted-average dumping margin of 101.74 percent exists for Euro Plastics for the period August 1, 2008, through July 31, 2009.

Assessment Rates

Because we are relying on total adverse facts available to establish the dumping margin for Euro Plastics, we will instruct U.S. Customs and Border Protection (CBP) to apply a dumping margin of 101.74 percent to all entries of PRCBs from Malaysia that were produced and/or exported by Euro Plastics and entered, or withdrawn from warehouse, for consumption during the period of review.

The Department intends to issue appropriate assessment instructions to CBP 15 days after publication of these final results of review.

Cash-Deposit Requirements

The following cash-deposit requirements will be effective upon publication of this notice of final results of administrative review for all shipments of PRCBs from Malaysia entered, or withdrawn from warehouse, for consumption on or after the date of publication, as provided by section 751(a)(2)(C) of the Act: (1) The cash-deposit rate for Euro Plastics will be 101.74 percent; (2) for other previously reviewed or investigated companies, the cash-deposit rate will continue to be the company-specific rate published for the most recent period; (3) if the exporter is not a firm covered in this review, a prior review, or the less-than-fair-value investigation but the manufacturer is, the cash-deposit rate will be the rate established for the most recent period for the manufacturer of the merchandise; (4) if neither the exporter nor the manufacturer has its own rate, the cash-deposit rate will be 84.94 percent, the all-others rate established in the Notice of Final Determination of Sales at Less Than Fair Value: Polyethylene Retail Carrier Bags From Malaysia, 69 FR 34128 (June 18, 2004). These deposit requirements shall remain in effect until further notice.

Notification to Importers

This notice also serves as a final reminder to importers of their responsibility under 19 CFR 351.402(f) to file a certificate regarding the reimbursement of antidumping duties prior to liquidation of the relevant entries during the period of review. Failure to comply with this requirement could result in the Department's presumption that reimbursement of antidumping duties occurred and the subsequent assessment of doubled antidumping duties. See 19 CFR 351.402(f)(3).

Notification Regarding APO

This notice also serves as a reminder to parties subject to the administrative protective order (APO) of their responsibility concerning the disposition of proprietary information disclosed under APO as explained in the APO itself. See also 19 CFR 351.305(a)(3). Timely written notification of the destruction of APO materials or conversion to judicial protective order is hereby requested. Failure to comply with the regulations and terms of an APO is a sanctionable violation.

We are publishing these final results of administrative review and notice in accordance with sections 751(a)(1) and 777(i)(1) of the Act and 19 CFR 351.221(b)(5).

Dated: September 27, 2010.
Ronald K. Lorentzen,
Deputy Assistant Secretary for Import Administration.

[FR Doc. 2010-24837 Filed 10-1-10; 8:45 am]

BILLING CODE 3510-DS-P